FEDERAL COMMUNICATIONS COMMISSION

[DA 04-1738]

FCC Reminds Public of Requirements Regarding Internet Relay Service and Issues Alert

AGENCY: Federal Communications Commission.

ACTION: Notice.

SUMMARY: In this document, the Commission provides guidance to consumers, TRS providers, and merchants that conduct business via telephone. In addition, this document is intended to alert the public regarding the fraudulent use of IP Relay Service, and to suggest steps they can take to avoid becoming victims.

DATES: Effective June 18, 2004.

ADDRESSES: Federal Communications Commission, 445 12th Street, SW., Washington, DC 20554.

FOR FURTHER INFORMATION CONTACT: Dana Jackson, (202) 418-2247 (voice), (202) 418-7898 (TTY), or e-mail dana.jackson@fcc.gov.

SUPPLEMENTARY INFORMATION: This is a summary of the Commission's Public Notice, DA 04-1738 released June 18, 2004.

The full text of this document is available for public inspection and copying during regular business hours at the FCC Reference Information Center, Portals II, 445 12th Street, SW., Room CY-A257, Washington, DC 20554. This document may be purchased from the Commission's duplicating contractor, Best Copy and Printing, Inc., Portals II, 445 12th Street, SW., Room CY-B402, Washington, DC 20554. Customers may contact BCPI, Inc. at their Web site: http://www.bcpiweb.com or call 1-800-378-3160.

To request this document in accessible formats for people with disabilities (Braille, large print, electronic files, audio format), send an e-mail to fcc504@fcc.gov or call the Consumer & Governmental Affairs Bureau at (202) 418-0530 (voice), (202) 418-0432 (TTY). This Public Notice can also be downloaded in Word and Portable Formats at http://www.fcc.gov/cgb/dro.

Synopsis: TRS enables an individual with a hearing or speech disability to communicate by telephone with a person without such a disability. This is accomplished through TRS facilities that are staffed by specially trained communications assistants (CAs) using special technology. The CA relays conversations between persons using various types of assistive communication devices and persons who do not require such assistive devices. In a traditional text-based TRS call, the caller types the number of the TRS facility and, after reaching the facility, types the number of the party he or she desires to call. The CA, in turn, places an outbound voice call to the called party. The CA serves as the “link” in the conversation, converting all TTY messages from the caller into voice messages, and all voice messages from the called party into typed messages for the TTY user. The process is performed in reverse when a voice telephone user initiates a traditional TRS call to a TTY user. TRS also includes Video Relay Services (VRS), Internet Protocol (IP) Relay, and Speech-to-Speech (STS). IP Relay is a form of TRS that uses the Internet, rather than the Public Switched Telephone Network, to place the leg of the call from the person with a hearing or speech disability to the TRS CA. The IP Relay user establishes a local connection to an Internet service provider (ISP) using a computer, web phone, personal digital assistant (PDA) or any other IP-capable device. The IP Relay user then reaches a CA by directing the web browser to one of the IP Relay providers' Web sites. When the IP Relay user is connected to the IP Relay service provider, the user is immediately routed to a CA, who then makes the outbound call to the hearing person and relays the call between the parties. The Commission has received complaints from vendors, consumers, and TRS providers that people are using the IP Relay to make telephone purchases using stolen or fake credit cards. Although such purchases are illegal, and the Department of Justice and the FBI can investigate, due to the transparent nature of the CA's role in a TRS call the CA may not interfere with the conversation. The TRS statutory and regulatory scheme do not contemplate that the CA should have a law enforcement role by monitoring the conversations they are relaying.

The Federal Trade Commission is aware of this problem and has instructed that persons who have been defrauded should contact the FTC directly at http://www.ftc.gov or 877-FTC-HELP. The FBI also has a Web site for complaints and information regarding Internet crimes: http://www.ic3.gov. Since this type of fraud first became apparent, the TRS Providers have worked to develop methods to determine which IP Relay calls are fraudulent, and therefore have been able to prevent many of these calls from reaching the intended victims. This has been achieved without negatively impacting legitimate users of the service, according to the IP Relay providers. However, this is still a concern and merchants should report any fraudulent activity to the FTC, FBI, or their state authorities. We encourage vendors that accept orders for their goods and services by telephone to take steps to ensure that, when they receive a TRS call, the credit card is valid and the purchaser is authorized to use the particular credit card, just as they would do with any other telephone order. We also remind vendors that Title III of the Americans with Disabilities Act of 1990 (ADA) does not permit merchants to treat persons with a hearing or speech disability differently than they treat others. Therefore, if they accept telephone orders from the general public, they cannot refuse to accept them from persons with hearing or speech disabilities using TRS.

For more information on the applicability of the ADA in this context, see generally the United States Department of Justice's ADA home page, at http://www.usdoj.gov/crt/ada/adahom1.htm or contact the DOJ ADA Information Line at 800-514-0301 (voice) or 800-514-0663 (TTY).

Federal Communications Commission.
Thomas D. Wyatt,
Deputy Chief, Consumer & Governmental Affairs Bureau.

[FR Doc. 04-15639 Filed 7-8-04; 8:45 am]

BILLING CODE 6712-01-P